INTERNATIONAL TRADE COMMISSION

Initiation of Pilot Mediation Program for Investigations Under Section 337 of the Tariff Act of 1930

AGENCY: U.S. International Trade Commission.

ACTION: Notice.

SUMMARY: Notice is hereby given that the Commission has approved the initiation of a voluntary pilot mediation program for investigations under section 337 of the Tariff Act of 1930, as amended.

FOR FURTHER INFORMATION CONTACT: James Holbein, Supervisory Attorney for Docket Services, U.S. International Trade Commission, 500 E Street, SW., Washington, DC 20436, telephone (202) 205-1873, or James Worth, Office of the General Counsel, U.S. International Trade Commission, 500 E Street, SW., Washington, DC 20436, telephone (202) 205-3065. General information concerning the Commission may also be obtained by accessing its Internet server at http://www.usitc.gov. Hearing-impaired persons are advised that information on this matter can be obtained by contacting the Commission's TDD terminal on (202) 205-1810.

SUPPLEMENTARY INFORMATION: The Commission has approved the initiation of a voluntary pilot mediation program for investigations under section 337 of the Tariff Act of 1930, as amended, 19 U.S.C. 1337 (“section 337”). The purposes of the pilot mediation program are to facilitate the settlement of disputes and to evaluate the possible implementation of a permanent mediation program.

As discussed in a Users' Manual for the Commission Pilot Mediation Program (Users' Manual), available at http://www.usitc.gov, the Commission will facilitate the holding of a settlement conference with a professional mediator for investigations participating in the pilot mediation program. The administrative management of the pilot mediation program is coordinated by the Supervisory Attorney for Docket Services. The pilot mediation program is supervised by the Office of the Chairman.

All section 337 investigations are eligible for participation in the pilot mediation program. A presiding Administrative Law Judge may nominate an investigation for inclusion in the pilot mediation program by so indicating to the Supervisory Attorney for Docket Services. Private parties may also request, individually or jointly, that an investigation be included in the pilot mediation program by filing a Confidential Request to Enter Mediation, a form which will be available from the Office of Dockets and at http://www.usitc.gov. Such a request should be submitted to: James R. Holbein, Supervisory Attorney, Docket Services, U.S. International Trade Commission, 500 E Street SW., Room 112, Washington, DC 20436.

While it is expected that all or nearly all of the selections for inclusion in the pilot mediation program will be made at the initiative of the presiding Administrative Law Judge or counsel for the parties, the Supervisory Attorney for Docket Services may select additional investigations for inclusion in the pilot mediation program at the direction of the Office of the Chairman. Although the Administrative Law Judge and the Commission have the power under the Administrative Procedure Act to require attendance at a settlement conference, including the use of alternative dispute resolution, the Commission has determined that parties' participation in the pilot mediation program will be on a voluntary basis. At the same time, the mediator will conduct the mediation only if he or she believes that the case would benefit from mediation and has settlement potential. The Commission gives notice that parties should not seek to delay or postpone proceedings before the presiding administrative law judge based on their participation in the pilot mediation program.

As described in the Users' Manual, mediation is a confidential process. The Commission investigative attorney will not conduct, participate in, or have knowledge of the proceedings, but may, consistent with current practice, review any settlement agreement that arises out of a successful mediation in making a recommendation to the Administrative Law Judge regarding whether a settlement is in the public interest.

The authority for the Commission's determination is contained in the Administrative Procedure Act, as amended, see 5 U.S.C. 556(c)(6)-(8), 572-74, 583, and in sections 335 and 337 of the Tariff Act of 1930, as amended, 19 U.S.C. 1335, 1337.

By order of the Commission.
Issued: October 29, 2008.
Marilyn R. Abbott,
Secretary to the Commission.

[FR Doc. E8-26196 Filed 11-3-08; 8:45 am]

BILLING CODE 7020-02-P